DEPARTMENT OF HEALTH AND HUMAN SERVICES

Administration for Children and Families

Submission for OMB Review; Domestic Victims of Human Trafficking Program Data (New Collection)

AGENCY: Office on Trafficking in Persons, Administration for Children and Families, HHS.

ACTION: Request for public comment.

SUMMARY: The Office on Trafficking in Persons (OTIP), Administration for Children and Families (ACF), U.S. Department of Health and Human Services (HHS) is proposing to collect data for the Domestic Victims of Human Trafficking Program (DVHT). The DVHT Program is inclusive of three distinct programs: The Domestic Victims of Human Trafficking and Services Outreach Program, Demonstration Grants to Strengthen the Response to Victims of Human Trafficking in Native Communities Program, and the Strengthen the Health Care Response for Victims of Human Trafficking Program grants. The data collection instruments are intended to collect information for all three DVHT programs.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION:

Description: The Trafficking Victims Protection Act of 2000, as amended, authorizes the Secretary of Health and Human Services to establish a program to assist United States citizens and lawful permanent residents who are victims of severe forms of trafficking (22 U.S.C. 7105(f)). OTIP will award cooperative agreements to implement the DVHT program, which will include: (1) The Domestic Victims of Human Trafficking and Services Outreach Program, (2) Demonstration Grants to Strengthen the Response to Victims of Human Trafficking in Native Communities Program, and (3) the Strengthen the Health Care Response for Victims of Human Trafficking Program. Through the DVHT program, grantees will provide comprehensive case management to domestic survivors of severe forms of human trafficking in a traditional case management, Native community, or health care setting. The intent of the program is to connect survivors with the services they need to improve their lives and health outcomes.

OTIP proposes to collect information to measure grant project performance, provide technical assistance to grantees, assess program outcomes, improve program evaluation, respond to congressional inquiries and mandated reports, and inform policy and program development that is responsive to the needs of victims.

The information collection captures information on participant demographics (e.g., age, sex, and country of origin); types of trafficking experienced (e.g., sex, labor, or both); types of enrollment; types of services requested and provided, along with their cost; barriers to service delivery; subrecipients enrolled into the grantee's network; victim outreach activities; and the types of training provided to subrecipient organizations or other partners.

Respondents: Domestic Victims of Human Trafficking and Services Outreach Program grantees, Demonstration Grants to Strengthen the Response to Victims of Human Trafficking in Native Communities Program grantees, and the Strengthen the Health Care Response for Victims of Human Trafficking Program grantees.

Annual Burden Estimates
Instrument | Total number of respondents | Total number of responses per respondent | Average burden hours per response | Total burden hours | Annual burden hours
Client Characteristics and Enrollment Form | 1,908 | 1 | 1 | 1,908 | 636
Client Service Use and Delivery Form | 1,908 | 3 | .25 | 1,431 | 477
Client Case Closure Form | 1,908 | 1 | .167 | 319 | 106
Barriers to Service Delivery and Monitoring Form | 36 | 15 | .167 | 90 | 30
DVHT Spending Form | 36 | 3 | .75 | 81 | 27
Partnership Development and Expansion: Enrollment Form | 25 | 1 | .25 | 6 | 3
Partnership Development and Expansion: Exit Form | 25 | 1 | .083 | 2 | 1
Training Form | 36 | 15 | .5 | 270 | 90
Victim Outreach Reporting Form | 36 | 15 | .3 | 162 | 54

Estimated Total Annual Burden Hours: 1,424.

Authority: 22 U.S.C. 7105(f).

Mary B. Jones,
ACF/OPRE Certifying Officer.

[FR Doc. 2020-01265 Filed 1-24-20; 8:45 am]

BILLING CODE 4184-47-P